DEPARTMENT OF VETERANS AFFAIRS

[OMB Control No. 2900-0040]

Agency Information Collection Activities Under OMB Review

AGENCY: Veterans Benefits Administration, Department of Veterans Affairs.

ACTION: Notice.

SUMMARY: In compliance with the Paperwork Reduction Act (PRA) of 1995 (44 U.S.C., 3501 et seq.), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before July 15, 2002.

FOR FURTHER INFORMATION OR A COPY OF THE SUBMISSION CONTACT: Denise McLamb, Information Management Service (045A4), Department of Veterans Affairs, 810 Vermont Avenue, NW., Washington, DC 20420, (202) 273-8030, FAX (202) 273-5981 or e-mail: denise.mclamb@mail.va.gov. Please refer to “OMB Control No. 2900-0040.”

Send comments and recommendations concerning any aspect of the information collection to VA's OMB Desk Officer, OMB Human Resources and Housing Branch, New Executive Office Building, Room 12035, Washington, DC 20503 (202) 395-7316. Please refer to “OMB Control No. 2900-0040” in any correspondence.

SUPPLEMENTARY INFORMATION: Title: Request for Postponement of Offsite or Exterior Onsite Improvements—Home Loan, VA Form 26-1847.

OMB Control Number: 2900-0040.

Type of Review: Extension of a currently approved collection.

Abstract: The form serves as the lender's and veteran's request to VA for acceptance of escrow or other arrangement to permit the veteran to occupy a property for which offsite or exterior onsite improvements are incomplete. This procedure makes it possible for loans to be guaranteed with adequate protection for the veteran and VA.

An agency may not conduct or sponsor, and a person is not required to respond to a collection of information unless it displays a currently valid OMB control number. The Federal Register Notice with a 60-day comment period soliciting comments on this collection of information was published on March 29, 2002, at pages 15285-15286.

Affected Public: Individuals or households, Business or other for-profit.

Estimated Annual Burden: 2,500 hours.

Estimated Average Burden Per Respondent: 30 minutes.

Frequency of Response: On occasion.

Estimated Number of Respondents: 5,000.

Dated: May 28, 2002.
By direction of the Secretary.
Genie McCully,
Acting Director, Information Management Service.

[FR Doc. 02-14863 Filed 6-12-02; 8:45 am]

BILLING CODE 8320-01-P